ENVIRONMENTAL PROTECTION AGENCY

[FRL-7844-1]

Jehl Cooperage Company Inc. Superfund Site; Notice of Settlement

AGENCY: Environmental Protection Agency.

ACTION: Notice of settlement.

SUMMARY: Under section 122(h)(1) of the Comprehensive Environmental Response, Compensation and Liability Act (CERCLA), the Environmental Protection Agency (EPA) has entered into an Agreement for Recovery of Past Cost (Agreement) at the Jehl Cooperage Company Inc Superfund Site (Site) located in Memphis, Shelby County, Tennessee, with Unocal. EPA will consider public comments on the Agreement until January 3, 2005. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comment may be submitted to Paula V. Batchelor at the above address within 30 days of the date of publication.

Dated: November 16, 2004.
Rosalind Brown,
Chief, Superfund Enforcement & Information Management Branch.

[FR Doc. 04-26478 Filed 11-30-04; 8:45 am]

BILLING CODE 6560-50-P